DEPARTMENT OF THE INTERIOR

Bureau of Land Management

[WO-830-1030-XP-24 1 A]

OMB Approval Number 1004-NEW; Information Collection Submitted to the Office of Management and Budget for Review Under the Paperwork Reduction Act

The Bureau of Land Management (BLM) has submitted the proposed collection of information listed below to the Office of Management and Budget (OMB) for approval under the provisions of the Paperwork Reduction Act (44 U.S.C. 3501 et seq.). On March 17, 2000, BLM published a notice in the Federal Register (65 FR 14610) requesting comments on this proposed collection. The comment period ended May 16, 2000. BLM received one comment from the public in response to that notice. Copies of the proposed collection of information and related surveys and explanatory material may be obtained by contacting the BLM Information Clearance Officer at (202) 452-5033.

OMB is required to respond to this request within 60 days but may respond after 30 days. For maximum consideration, your comments and suggestions on the requirement should be made within 30 days directly to the Office of Management and Budget, Interior Department Desk Officer (1004-NEW), Office of Information and Regulatory Affairs, Washington, DC 20503. Please provide a copy of your comments to the Bureau Clearance Officer (WO-630), 1849 C St., NW, Mail Stop 401LS, Washington, DC 20240.

Nature of Comments: We specifically request your comments on the following:

1. Whether the collection of information is necessary for the proper functioning of the Bureau of Land Management, including whether the information will have practical utility;

2. The accuracy of BLM's estimate of the burden of collecting the information, including the validity of the methodology and assumptions used;

3. The quality, utility, and clarity of the information to be collected; and

4. How to minimize the burden of collecting the information on those who are to respond, including the use of appropriate automated electronic, mechanical, or other forms of information technology.

Title: BLM's Generic Customer Satisfaction Surveys for Stakeholders and Partners and State and Local Governments, OMB Approval Number: 1004-NEW

Abstract: BLM is proposing a new information collection for determining the satisfaction of its stakeholders, partners, and state and local governments with its programs and services. A currently approved collection (1004-0181) covered all survey instruments, both customer comment cards and telephone surveys, and the use of focus groups to determine what questions to ask and comments to solicit. The new collection will concern only customer-specific programs not included in 1004-0181. The anticipated programs/customers for survey are state and local governments and stakeholders and partners. These data will be used to identify: (1) service needs of customers, (2) strengths and weaknesses of services, (3) ideas or suggestions for improvement of service from BLM customers, (4) barriers to achieving customer service standards, and (5) changes to customer service standards.

Bureau Form Number: Not applicable.

Frequency: Once every other year.

Description of Respondents: Stakeholders are indirect customers that represent BLM's direct customers and are key to assessing service quality and include environmental, business and other community organizations and Resource Advisory Councils (RAC's), advisory groups. State and local government officials are statewide executive agencies, statewide elected or appointed officials, and local and community elected officials.

Annual Responses: 1720.

Bureau Burden Hours: 430 or 0.25 hours (15 minutes) per response.

Information Clearance Officer: Shirlean Beshir, 202-452-5033.

Dated: June 16, 2000.
Shirlean Beshir,
BLM, Information Clearance Officer.

[FR Doc. 00-17463 Filed 7-10-00; 8:45 am]

BILLING CODE 4310-84-M